DEPARTMENT OF HOMELAND SECURITY

Coast Guard

46 CFR Chapter I

[Docket No. USCG-2016-0669]

Draft Revisions to the Marine Safety Manual, Volume III, Parts B and C, Change-2

AGENCY: Coast Guard, DHS.

ACTION: Notice of availability with request for comments.

SUMMARY: The Coast Guard announces the availability of a draft update to the Marine Safety Manual (MSM), Volume III, Marine Industry Personnel, and the corresponding Commandant Change Notice that highlights the changes made to that manual. MSM Volume III provides information and interpretations on international conventions and U.S. statutes and regulations relating to marine industry personnel. This draft Commandant Change Notice discusses the substantive changes to Parts B and C of MSM Volume III. The proposed changes are red-lined and each changed page is annotated with CH-2 in the footer. Additionally, we have created a document that provides a summary of each change. The Coast Guard seeks and will consider comments on these draft changes before issuing a final version of MSM Volume III.

DATES: Guidance documents discussed in this document should be available in the online docket within 3 business days of July 15, 2016. Comments must be received by the Coast Guard on or before September 13, 2016.

ADDRESSES: You may submit comments identified by docket number “USCG-2016-0669” using the Federal eRulemaking Portal at http://www.regulations.gov. See the “Public Participation and Request for Comments” portion of the SUPPLEMENTARY INFORMATION section for further instructions on submitting comments.

FOR FURTHER INFORMATION CONTACT: For information about this document call of email Lieutenant Commander Corydon Heard, U.S. Coast Guard; telephone 409-978-2704, email Corydon.F.Heard@uscg.mil.

SUPPLEMENTARY INFORMATION:

Background and Purpose

Volume III of the Marine Safety Manual (MSM) provides information and interpretations on international conventions and U.S. statutes and regulations relating to marine industry personnel. The last updates to Volume III of the MSM were released on July 30, 2014 (79 FR 45451, Aug. 5, 2014). This document announces updates to portions of Part B and C.

Specifically, substantive changes include: (1) Updated guidance to align with the Howard Coble Coast Guard and Maritime Transportation Act of 2014; (2) manning scales for towing vessels certificated under 46 CFR Subchapter M from the recently published Inspection of Towing Vessels final rule (81 FR 40003, June 20, 2016); and (3) various policy updates involving vessel manning.

In addition to red-lining proposed changes and annotating each changed page with CH-2 in the footer, we have created a change matrix identifying proposed changes. Both of these documents are available for viewing in the public docket.

It should be noted that the proposed revisions in this draft change are not intended to preempt or take the place of separate policy initiatives regarding specific decisions on appeal or future regulations. Future changes to the MSM may be released if the Coast Guard promulgates new regulations or issues appeal decisions, which may affect the guidance and information contained within the MSM.

Public Participation and Comments

We encourage you to submit comments (or related material) on our draft Commandant Change Notice 16000, CH-2 to the Marine Safety Manual, Volume III, Marine Industry Personnel, COMDTINST M16000.8B, which is in the docket and contains substantive changes to Parts B and C of MSM Volume III. We will consider all submissions and may adjust our final action based on your comments. If you submit a comment, please include the docket number for this notice, indicate the specific section of the Commandant Change Notice to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or the Coast Guard publishes another document related to the draft Marine Safety Manual, Volume III, Parts B and C, Change-2.

We accept anonymous comments. All comments received will be posted without change to http://www.regulations.gov and will include any personal information you have provided. For more about privacy and the docket, you may review a Privacy Act notice regarding the Federal Docket Management System in the March 24, 2005, issue of the Federal Register (70 FR 15086).

This document is issued under authority of 5 U.S.C. 552(a).

Dated: July 11, 2016.
Verne B. Gifford,
Captain, U.S. Coast Guard, Director, Inspections and Compliance.

[FR Doc. 2016-16691 Filed 7-14-16; 8:45 am]

BILLING CODE 9110-04-P